ENVIRONMENTAL PROTECTION AGENCY

[R07-OAR-2005-MO-0001; FRL-7863-4]

Adequacy Determination for the St. Louis Area Ozone Maintenance State Implementation Plan for Transportation Conformity Purposes; State of Missouri

AGENCY: Environmental Protection Agency (EPA).

ACTION: Notice of adequacy determination.

SUMMARY: In this notice, EPA is informing the public that we have found the motor vehicle emissions budgets (MVEB) for volatile organic compounds and nitrogen oxides in the Missouri portion of the St. Louis area adequate for conformity purposes. The State of Missouri established MVEBs for 2007. The emission estimates for 2007 were included in the 1-hour ozone maintenance plan based on projected emission inventories for that year. This Notice formalizes the 2007 emissions estimates as budgets for future conformity determinations, including the conformity determination that is required by June 15, 2005, under the 8-hour ozone standard.

DATES: This rule is effective February 10, 2005.

ADDRESSES: The finding and the response to comments will be available at EPA's conformity Web site: http://www.epa.gov/otaq/transp/traqconf.htm (click on “Adequacy Web Pages”).

FOR FURTHER INFORMATION CONTACT: You may also contact Heather Hamilton, Environmental Protection Agency, 901 N. 5th Street, Kansas City, Kansas 66101, or by e-mail at hamilton.heather@epa.gov, telephone (913) 551-7039.

SUPPLEMENTARY INFORMATION: Throughout this document whenever “we,” “us,” or “our” is used, we mean EPA.

Transportation conformity is required by section 176(c) of the Clean Air Act. EPA's conformity rule requires that transportation plans, programs, and projects conform to State Implementation Plans (SIPs) and established the criteria and procedures for determining whether or not they do. Conformity to a SIP means that transportation activities will not produce new air quality violations, worsen existing violations, or delay timely attainment of the National Ambient Air Quality Standards. The SIPs must establish MVEBs to ensure that conformity is achieved.

The criteria by which we determine whether SIP motor vehicle emission budgets are adequate for conformity purposes are outlined in 40 CFR 93.118(e)(4). We applied these criteria in finding that the submitted budgets are adequate.

We sent a letter to the Missouri Department of Natural Resources on December 17, 2004, stating that the motor vehicle emissions budgets in the St. Louis area for 2007 were found to be adequate. These budgets were projected emissions in the 1-hour ozone maintenance plan for St. Louis, although EPA approved a MVEB for 2014 as part of its approval of the maintenance plan. Because St. Louis must achieve the 8-hour ozone standard by 2010, budgets for an earlier year were determined to be necessary. The State's budgets for 2007 were approved through the adequacy process to be used for future conformity determinations. A conformity determination is required by June 15, 2005, for the 8-hour ozone standard. The 2007 budget will be used in that determination.

On March 2, 1999, the DC Circuit Court ruled that submitted SIPs cannot be used for conformity determinations until EPA has affirmatively found them adequate. As a result of our adequacy finding, the St. Louis area may use the 2007 budget for future conformity determinations.

We described our process for determining the adequacy of submitted SIP budgets in a guidance memorandum dated May 14, 1999, entitled, “Conformity Guidance on Implementation of March 2, 1999, Conformity Court Decision.” We followed this guidance in making our adequacy determination. The proposed budget was posted on the Adequacy Web site on November 3, 2004. The comment period closed on December 2, 2004, and no comments were received. This action provides notice that the 2007 MVEB for the Missouri portion of the St. Louis area is adequate for conformity purposes.

Authority: 42 U.S.C. 7401-7671q.

Dated: January 11, 2005.
William Rice,
Acting Regional Administrator, Region 7.

[FR Doc. 05-1372 Filed 1-25-05; 8:45 am]

BILLING CODE 6560-50-P